DEPARTMENT OF HEALTH AND HUMAN SERVICES

Meetings of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that two meetings are scheduled to be held for the Presidential Advisory Council on Combating Antibiotic-Resistant Bacteria (PACCARB). The meetings will be open to the public via WebEx and teleconference; a pre-registered public comment session will be held during both meetings. Pre-registration is required for members of the public who wish to attend the meetings via WebEx/teleconference. Individuals who wish to send in their written public comment should send an email to CARB@hhs.gov. Registration information is available on the website http://www.hhs.gov/paccarb and must be completed by October 1, 2021 for the October 6, 2021 virtual Public Meeting; and, by November 29, 2021 for the November 30-December 1, 2021 virtual Public Meeting. Additional information about registering for the meeting and providing public comment can be obtained at http://www.hhs.gov/paccarb on the Upcoming Meetings page.

DATES: The October meeting is scheduled to be held on October 6, 2021, from 10:00 a.m. to 11:00 a.m. ET (times are tentative and subject to change). The November/December meeting is scheduled to be held on November 30, 2021 from 10:00 a.m. to 3:00 p.m. and December 1, 2021, from 10:00 a.m. to 3:00 p.m. ET (times are tentative and subject to change). The confirmed times and agenda items for both meetings will be posted on the website for the PACCARB at http://www.hhs.gov/paccarb when this information becomes available. Pre-registration for attending the meeting is strongly suggested and should be completed no later than October 1, 2021 for the October meeting and November 29, 2021 for the November/December meeting.

ADDRESSES: Instructions regarding attending this meeting virtually will be posted at least one week prior to the meeting at: http://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, Room L616, Switzer Building, 330 C St. SW, Washington, DC 20024. Phone: 202-746-1512; Email: CARB@hhs.gov.

SUPPLEMENTARY INFORMATION: The Presidential Advisory Council on Combating Antibiotic-Resistant Bacteria (PACCARB), established by Executive Order 13676, is continued by Section 505 of Public Law 116-22, the Pandemic and All-Hazards Preparedness and Advancing Innovation Act of 2019 (PAHPAIA). Activities and duties of the Advisory Council are governed by the provisions of the Federal Advisory Committee Act (FACA), Public Law 92-463, as amended (5 U.S.C. app.), which sets forth standards for the formation and use of federal advisory committees.

The PACCARB shall advise and provide information and recommendations to the Secretary regarding programs and policies intended to reduce or combat antibiotic-resistant bacteria that may present a public health threat and improve capabilities to prevent, diagnose, mitigate, or treat such resistance. The PACCARB shall function solely for advisory purposes.

Such advice, information, and recommendations may be related to improving: The effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The October 6, 2021 public meeting will be held virtually and is dedicated to deliberation and vote of the letter with recommendations from the Immediate Action Subcommittee of the Advisory Council. The meeting agenda will be posted on the PACCARB website at http://www.hhs.gov/paccarb when it has been finalized. All agenda items are tentative and subject to change.

The November 31, 2021 and December 1, 2021 public meeting will be held virtually and will be dedicated to addressing the current situation regarding antimicrobial resistance as well as to a presentation from the National Academies of Sciences, Engineering, and Medicine on their report, Examining the Long-term Health and Economic Effects of Antimicrobial Resistance in the United States. The meeting agenda will be posted on the PACCARB website at http://www.hhs.gov/paccarb when it has been finalized. All agenda items are tentative and subject to change.

Instructions regarding attending both meetings virtually will be posted one week prior to each meeting at: http://www.hhs.gov/paccarb.

Members of the public will have the opportunity to provide comments live during the October meeting via conference line by pre-registering online at http://www.hhs.gov/paccarb. Pre-registration is required for participation in this session with limited spots available. Written public comments can also be emailed to CARB@hhs.gov by midnight October 1, 2021 and should be limited to no more than one page. All public comments received prior to October 1, 2021, will be provided to Advisory Council members.

Members of the public will have the opportunity to provide comments live during the November 30, 2021 and December 1, 2021 public meeting via conference line by pre-registering online at http://www.hhs.gov/paccarb. There will be two separate sessions available for public comment: An Innovation Spotlight will be held on November 30, 2021 where companies and/or organizations involved in combating antibiotic resistance have an opportunity to present their work to members of the Advisory Council; and on December 1, 2021, where all members of the general public are welcome to provide oral comment during this separate session. Pre-registration is required for participation in these sessions with limited spots available. Further information about these two sessions can be found online at http://www.hhs.gov/paccarb. Written public comments can also be emailed to CARB@hhs.gov by midnight November 29, 2021 and should be limited to no more than one page. All public comments received prior to November 29, 2021, will be provided to Advisory Council members.

Dated: August 26, 2021.
Jomana F. Musmar,
Designated Federal Officer, Presidential Advisory Council on Combating Antibiotic-Resistant Bacteria, Office of the Assistant Secretary for Health.

[FR Doc. 2021-19027 Filed 9-2-21; 8:45 am]

BILLING CODE 4150-44-P